DEPARTMENT OF JUSTICE

Antitrust Division

Notice Pursuant to the National Cooperative Research and Production Act of 1993—Biopharmaceutical Manufacturing Preparedness Consortium

Notice is hereby given that, on July 11, 2024, pursuant to section 6(a) of the National Cooperative Research and Production Act of 1993, 15 U.S.C. 4301 et seq. (“the Act”), Biopharmaceutical Manufacturing Preparedness Consortium (“BioMaP-Consortium”) has filed written notifications simultaneously with the Attorney General and the Federal Trade Commission disclosing changes in its membership. The notifications were filed for the purpose of extending the Act's provisions limiting the recovery of antitrust plaintiffs to actual damages under specified circumstances.

Specifically, Arena BioPharma Consulting LLC, Athens, GA; ReechPharma LLC, Newark, CA; Repligen Corp., Waltham, WA; RexSter Technologies, Inc., Acton, MA; VJ Technologies, Inc., Bohemia, NY; Altor Safety LLC, Valley Cottage, NY; Anverra Pharma LLC, Mt. Pleasant, SC; Arranat Bio MA LLC, Watertown, MA; BioTechnique LLC, York, PA; Celltheon, Union City, CA; CHO Plus, Inc., South San Francisco, CA; Cocoon Bioscience S.L., Derio, SPAIN; CONTINUUS Pharmaceuticals, Inc., Woburn, MA; Convergence, Oklahoma City, OK; DNA Script, Daly City, CA; Evonik Corp., Piscataway, NJ; Gerresheimer Glass, Inc., Vineland, NJ; Innoviva Specialty Therapeutics, Waltham, MA; KBI Biopharma, Durham, NC; Orexo AB, Morristown, NJ; Persist AI Formulations Corp., West Sacramento, CA; Phenom Pharmaceuticals LLC, Miami Beach, FL; Shionogi, Inc., Florham Park, NJ; Solaris Vaccines, Inc., Fort Collins, CO; Spring Discovery, Inc., San Carlos, CA; Sublime LLC, Ann Arbor, MI, Watson-Marlow, Inc., Wilmington, MA; Apotex Corp., Weston, FL; Avid Bioservices, Inc., Tustin, CA; Burrell International Group LLC, Washington, DC; Dark Wolf Solutions LLC, Herdon, VA; GENEVATIONUS LLC, Sacramento, CA; Gusmer Enterprises, Inc., Mountainside, NJ; Integrated Pharma Services, Rockville, MD; Replicate Bioscience, San Diego, CA; Seqirus, Inc., Holly Springs, NC; Signet Healthcare Management LLC, New York, NY; Sterigenics Radiation Technologies LLC, Oak Brook, IL; The Albert B. Sabin Vaccine Institute, Inc., Washington, DC; Virica Biotech, Ottawa, CANADA; Agile GxP Technologies, Providence, RI; Allied Technologies and Consulting LLC, Frederick, MD; Global Key Solutions Corp., Dalton, PA; Industrial Info Resources, Inc., Sugar Land, TX; Prince Sterilization Services LLC, Pine Brook, NJ; Curia Global, Inc., Albany, NY; Donaldson Company, Inc., Bloomington, MN; GCM Pharma, St. Louis, MO; Photosynthetic B.V., Amsterdam, NETHERLANDS; Revagenix, Inc., San Francisco, CA; Agno Pharmaceuticals LLC, Bethlehem, PA; BioAnalysis LLC, Philadelphia, PA; Cornerstone Government Affairs, Inc., Washington, DC; Cytophage Technologies, Inc., Winnipeg, CANADA; Humanetics Corp., Edina, MN; NorthX Biologics AB, Matfors, SWEDEN; Novavax, Inc., Gaithersburg, MD; Quantiscope PBC, Salt Lake City, UT; Stoic Bio, Inc., San Diego, CA; and Sunflower Therapeutics PBC, Hingham, MA, have been added as parties to this venture.

Also, Quantum Four Labs LLC, Arcadia, CA, has withdrawn as party to this venture.

No other changes have been made in either the membership or planned activity of the group research project. Membership in this group research project remains open, and the BioMaP-Consortium intends to file additional written notifications disclosing all changes in membership.

On January 5, 2024, the BioMaP- Consortium filed its original notification pursuant to section 6(a) of the Act. The Department of Justice published a notice in the Federal Register pursuant to section 6(b) of the Act on April 16, 2024 (89 FR 26923).

The last notification was filed with the Department on April 12, 2024. A notice was published in the Federal Register pursuant to section 6(b) of the Act on June 21, 2024 (89 FR 52097).

Suzanne Morris,
Deputy Director Civil Enforcement Operations, Antitrust Division.

[FR Doc. 2024-23597 Filed 10-10-24; 8:45 am]

BILLING CODE P